DEPARTMENT OF TRANSPORTATION

Federal Transit Administration

[FTA Docket No. FTA 2023-0030]

Agency Information Collection Activity Under OMB Review: FTA Program Evaluation for Processes and Outcomes

AGENCY: Federal Transit Administration (FTA), Department of Transportation (DOT).

ACTION: Notice of request for comments.

SUMMARY: In accordance with the Paperwork Reduction Act of 1995, this notice announces the intention of the Federal Transit Administration (FTA) to request the Office of Management and Budget (OMB) to approve a new information collection titled: FTA Program Evaluation for Processes and Outcomes.

DATES: Comments must be received on or before February 5, 2024.

ADDRESSES: You may send comments, identified by docket number FTA-2023-0030, by any of the following methods:

• Federal eRulemaking Portal: https://www.regulations.gov, insert docket number FTA-2023-0030 in the keyword box and click “Search.” Next, choose the notice listed, click on the “Comment” button, and follow the online instructions for submitting a comment.

• Mail: Docket Management Facility, U.S. Department of Transportation, 1200 New Jersey Avenue SE, West Building Ground Floor, Room W12-140, Washington, DC, 20590-0001.

• Hand Delivery/Courier: West Building Ground Floor, Room W12-140, 1200 New Jersey Avenue SE, Washington, DC, between 9 a.m. and 5 p.m. ET, Monday through Friday, except Federal holidays.

• Fax: (202) 493-2251.

Instructions: You must include the agency name and docket number for this notice at the beginning of your comments. Submit two copies of your comments if you submit them by mail. For confirmation that FTA has received your comments, include a self-addressed stamped postcard. Note that all comments received, including any personal information, will be posted and will be available to internet users, without change, to https://www.regulations.gov. You may review DOT's complete Privacy Act Statement in the Federal Register published April 11, 2000, (65 FR 19477), or you may visit https://www.regulations.gov.

Docket: For access to the docket to read background documents and comments received, go to https://www.regulations.gov at any time. Background documents and comments received may also be viewed at the U.S. Department of Transportation, 1200 New Jersey Avenue SE, Docket Operations, M-30, West Building, Ground Floor, Room W12-140, Washington, DC 20590-0001 between 9 a.m. and 5 p.m., Monday through Friday, except Federal holidays.

FOR FURTHER INFORMATION CONTACT: Julianne Lee at 202-366-6597 or julianne.lee@dot.gov.

SUPPLEMENTARY INFORMATION: Interested parties are invited to send comments regarding any aspect of this information collection, including: (1) the necessity and utility of the information collection for the proper performance of the functions of FTA; (2) the accuracy of the estimated burden; (3) ways to enhance the quality, utility, and clarity of the collected information; and (4) ways to minimize the collection burden without reducing the quality of the collected information. Comments submitted in response to this notice will be summarized and/or included in the request for OMB approval of this information collection.

Title: FTA Program Evaluation for Processes and Outcomes

OMB Number: 2132—New Information Request

Background

The Foundations for Evidence-Based Policymaking Act of 2018 (Pub. L.115-435) requires Federal agencies to develop evidence to support policymaking. Federal agencies, including FTA, must systematically collect and analyze data to assess the effectiveness and efficiency of their programs through evaluation. According to the Act, “an evaluation is an assessment, using systematic data collection and analysis, of one or more programs, policies, and/or organizations intended to assess their effectiveness and efficiency.” Evidence resulting from evaluations and other evidence-building activities should be used to inform leaders about whether Federal programs and activities are achieving their intended results and contribute to improved use of data and evidence-based decision making. To effectively evaluate programs, FTA needs to collect data directly from program participants, such as State departments of transportation (DOTs), metropolitan planning organizations (MPOs), transit authorities, State and local government units, and Indian tribes, to understand their experiences and benefits of program participation. Participants may be engaged through surveys or focus groups to collect relevant data. The Office of Management and Budget (OMB) and the Government Accountability Office (GAO) strongly advocate for stakeholder engagement in evaluation design. See: OMB Memorandum M-19-23, available at: https://www.whitehouse.gov/wp-content/uploads/2019/07/M-19-23.pdf and OMB Memorandum M-21-27, available at: https://www.whitehouse.gov/wp-content/uploads/2021/06/M-21-27.pdf. To ensure alignment with ongoing efforts, this information request seeks to support FTA in meeting the Evidence Act's requirements and contribute to FTA's broader framework of evidence-based decision-making. This is a voluntary data and information collection, with no participation requirement to receive Federal benefits. The survey portion of this information collection differs from other similar efforts, such as the FTA Stakeholder Survey which targets grant recipients and inquires on customer satisfaction with a range of FTA services and knowledge of rulemaking. Current and previous information collections for grant applicants and recipients to provide routine program planning and metrics on plans and deliverables are separate from this collection. Rather, this information collection will allow FTA decision makers to understand challenges and barriers to program implementation, identify opportunities for improving program communications and outreach, and make stronger linkages between program progress and outcomes.

Title: FTA Program Evaluation for Processes and Outcomes.

OMB Control Number: 2132-New.

Forms: None.

Type of Review: New.

Respondents: State departments of transportation (DOTs) and metropolitan planning organizations (MPOs), transit authorities, States and local government units, and Indian tribes.

Estimated Annual Respondents: 1444 respondents.

Estimated Annual Number of Responses: 2166 responses.

Estimated Total Annual Burden: 5054 hours.

Frequency: Annual.

Nadine Pembleton,
Deputy Associate Administrator, Office of Administration.

[FR Doc. 2023-26839 Filed 12-6-23; 8:45 am]

BILLING CODE 4910-57-P